DEPARTMENT OF JUSTICE

Notice of Public Meeting Concerning Heavy Duty Diesel Engine Consent Decrees

The Department of Justice and the Environmental Protection Agency announce a public meeting to be held on June 29, 2000 at 10:00 a.m. at 1425 New York Ave., NW., 13th Floor Conference Room, Washington, DC. The subject of the meeting will be implementation of the provisions of seven consent decrees signed by the United States and diesel engine manufacturers and entered by the United States District Court for the District of Columbia on July 1, 1999. In supporting entry by the Court of the decrees, the United States committed to meet with states, industry groups, environmental groups, and concerned citizens to discuss consent decree implementation issues. This will be the fourth of a series of public meetings to be held quarterly during the first year of implementation of the consent decrees and at least annually thereafter. Future meetings will be announced in the Federal Register and/or on EPA's Diesel Engine Settlement web page at: www.epa.gov/oeca/ore/aed/diesel.

For further information, please contact: Anne Wick, EPA Diesel Engine Consent Decree Coordinator, U.S. Environmental Protection Agency (Mail Code 2242A), EPA Headquarters, Washington, DC 20460, e-mail: WICK.ANNE@EPA.GOV.

Joel M. Gross,
Chief, Environmental Enforcement Section, Environment and Natural Resources Division.

[FR Doc. 00-15590 Filed 6-20-00; 8:45 am]

BILLING CODE 4410-15-M